DEPARTMENT OF ENERGY

Cost-Sharing Partnerships With the Private Sector in Fusion Energy

AGENCY: Fusion Energy Sciences (FES) Program, Office of Science (SC), Department of Energy (DOE).

ACTION: Request for information (RFI).

SUMMARY: The United States Department of Energy is developing a plan for a possible cost share program in fusion reactor technologies. This RFI invites interested parties to provide DOE-SC input on the topical areas, program objectives, eligibility requirements, program organization and structure, public and private roles and responsibilities, funding modalities, and assessment criteria of such an initiative.

DATES: Written comments and information are requested on or before May 15, 2020.

ADDRESSES: The DOE Office of Science is using the http://www.regulations.gov system for the submission and posting of public comments in this proceeding. All comments in response to this RFI are therefore to be submitted electronically through http://www.regulations.gov, via the web form accessed by following the “Submit a Formal Comment” link near the top right of the Federal Register web page for this RFI.

FOR FURTHER INFORMATION CONTACT: Requests for additional information may be submitted to Dr. John Mandrekas, (301) 903-4923, CostShareFusion@science.doe.gov.

SUPPLEMENTARY INFORMATION: Recognizing the recent surge in interest and investments by the private sector in the development of fusion energy, the DOE-SC FES program has been exploring partnership initiatives to leverage the private sector efforts, with the objective of accelerating progress toward the realization of fusion energy and solidifying U.S. leadership in this critical energy technology of the future. As a first step, FES launched the Innovation Network for Fusion Energy (INFUSE) ¹ program which provides private-sector fusion companies with access to the expertise and facilities of DOE's national laboratories to overcome critical scientific and technological hurdles in pursuing development of fusion energy systems. INFUSE is modeled after the successful Gateway for Accelerated Innovation in Nuclear (GAIN) voucher program ² established by the DOE Nuclear Energy (DOE-NE) Office. As in the GAIN voucher program, INFUSE does not provide funding directly to the private companies, but instead provides support to the partnering DOE laboratories to enable them to collaborate with their industrial partners.

¹ Innovation Network for Fusion Energy (INFUSE), https://infuse.ornl.gov/.

² Gateway for Accelerated Innovation in Nuclear (GAIN), https://inl.gov/research-program/gain/.

As a next step, DOE-SC is exploring cost share partnership programs where the funding is provided directly to the private-sector companies under a performance-based milestone-driven approach. Such a program could be modeled after successful milestone-driven cost share programs established by other DOE offices or federal agencies, such as the Small Modular Reactors (SMRs) ³ and the non-voucher part of GAIN programs of DOE-NE, as well as NASA's Commercial Orbital Transportation Services (COTS) program.⁴ DOE is also exploring the establishment of a fusion public-private partnership cost share program in reactor technologies.

³ Advanced Small Modular Reactors (SMRs), https://www.energy.gov/ne/nuclear-reactor-technologies/small-modular-nuclear-reactors.

⁴ National Aeronautics and Space Administration, Commercial Orbital Transportation Services (COTS), https://www.nasa.gov/commercial-orbital-transportation-services-cots.

Request for Information: The objective of this request for information is to gather input about the topical areas, program objectives, eligibility requirements, program organization and structure, public and private roles and responsibilities, funding modalities, and assessment criteria of such an initiative.

DOE-SC is not announcing an intention or an interest in procuring goods and services for its use. This RFI makes no statement about the possibility that DOE-SC might issue one or more solicitations for either procurement or financial assistance activities in the future. DOE-SC seeks input about how best to create a public benefit through expanding partnerships with the private sector in the field of fusion energy.

Comments containing references, studies, research, and other empirical data that are not widely published should include copies of the referenced materials. Note that comments will be made publicly available as submitted. Any information that may be confidential and exempt by law from public disclosure should be submitted as described below.

Confidential Business Information: Pursuant to 10 CFR 1004.11, any person submitting information he or she believes to be confidential and exempt by law from public disclosure should submit via email: One copy of the document marked “confidential” including all the information believed to be confidential, and one copy of the document marked “non-confidential” with the information believed to be confidential deleted. DOE will make its own determination about the confidential status of the information and treat it according to its determination. Factors of interest to DOE when evaluating requests to treat submitted information as confidential include: (1) A description of the items, (2) whether and why such items are customarily treated as confidential within the industry, (3) whether the information is generally known by or available from other sources, (4) whether the information has previously been made available to others without obligation concerning confidentiality, (5) an explanation of the competitive injury to the submitting person which would result from public disclosure, (6) when such information might lose its confidential character due to the passage of time, and (7) why disclosure of the information would be contrary to the public interest.

Signed in Washington, DC, on April 9, 2020.
Chris Fall,
Director, Office of Science.

[FR Doc. 2020-08312 Filed 4-17-20; 8:45 am]

BILLING CODE 6450-01-P